DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following: (1) Notice of Termination, Suspension, Reduction or Increase in Payment Benefits (CM-908); and (2) Economic Survey Schedule (WH-1). Copies of the proposed information collection requests can be obtained by contacting the office listed below in the addressee section of this Notice.

DATES: Written comments must be submitted to the office listed in the ADDRESSES section below on or before June 13, 2000.

ADDRESSES: Ms. Patricia A. Forkel, U. S. Department of Labor, 200 Constitution Ave., NW., Room S-3201, Washington, DC 20210, telephone (202) 693-0339 (this is not a toll-free number), fax (202) 693-1451.

SUPPLEMENTARY INFORMATION:

Notice of Termination, Suspension, Reduction, or Increase in Benefit Payments

I. Background

The Office of Workers' Compensation Programs (OWCP) administers the Federal Mine Safety and Health Act of 1977. Under the Act, responsible coal mine operators or their representatives must provide benefit payments to eligible coal miners and dependents of coal miners who have contracted pneumoconiosis. Responsible operators who pay benefits are required to report any changes in the benefit amount, and the reasons for the change, to the Department of Labor.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to ensure that Division of Coal Mine Workers' Compensation regulations are followed and that the new benefit amount is accurate and timely.

Type of Review: Extension.

Agency: Employment Standards Administration.

Title: Notice of Termination, Suspension, Reduction or Increase in Benefit Payments.

OMB Number: 1215-0064.

Agency Number: CM-908.

Affected Public: Businesses or other for-profit.

Total Respondents: 325.

Frequency: On occasion.

Total Responses: 9,000.

Average Time per Response: 12 minutes.

Estimated Total Burden Hours: 1,800.

Total Burden Cost (capital/startup): $0.

Total Burden Cost (operating/maintenance): $3.

Economic Survey Schedule

I. Background

Sections 5, 6(a)(3) and 8 of the Fair Labor Standards Act (FLSA), administered by the Wage and Hour Division, provide that covered, nonexempt employees in American Samoa may be paid a minimum wage rate established by a special industry committee. The committee is to recommend to the Secretary of Labor the highest minimum wage rate (not to exceed the rate required under section 6(a)(1) of the FLSA) that it determines, having due regard to economic and competitive conditions, will not substantially curtail employment in the industry and will not give any industry in American Samoa a competitive advantage over any other industry in the United States outside of American Samoa. The Secretary of Labor must submit to the industry committee economic data to enable the committee to recommend the industry wage rates. The Economic Survey Schedule (WH-1) is a voluntary use form completed by employers in American Samoa to disclose certain economic data concerning their establishment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to gather information necessary to prepare the required economic report to be used by the committee to set industry wage rates in American Samoa.

Type of Review: Extension.

Agency: Employment Standards Administration.

Title: Economic Survey Schedule.

OMB Number: 1215-0028.

Agency Number: WH-1.

Affected Public: Business or other for-profit; State, Local or Tribal Government.

Total Respondents: 50.

Frequency: Biennially.

Total Responses: 50.

Average Time per Response: 45 minutes.

Estimated Total Burden Hours: 38.

Total Burden Cost (capital/startup): $0.

Total Burden Cost (operating/maintenance): $0.

Comments submitted in response to this notice will be summarized and/or included in the request for Office of Management and Budget approval of the information collection request; they will also become a matter of public record.

Dated: April 7, 2000.
Margaret J. Sherrill,
Chief, Branch of Management Review and Internal Control, Division of Financial Management, Office of Management, Administration and Planning, Employment Standards Administration.

[FR Doc. 00-9339 Filed 4-13-00; 8:45 am]

BILLING CODE 4510-27-P